DEPARTMENT OF AGRICULTURE

Forest Service

Plumas County Resource Advisory Committee (RAC)

AGENCY: Forest Service, USDA.

ACTION: Notice of meeting.

SUMMARY: The Plumas County Resource Advisory Committee (RAC) will hold a meeting on September 21, 2007, in Quincy, CA. The purpose of the meeting is to review applications for Cycle 7 funding and select projects to be recommended to the Plumas or Lassen National Forest Supervisor for calendar year 2008 funding consideration. The funding is available under the Title II provisions of the Secure Rural Schools and Community Self-Determination Act of 2000.

Date & Address: The meeting will take place from 9-4 at the Mineral Building-Plumas/Sierra County Fairgrounds, 208 Fairgrounds Road, Quincy, CA.

FOR FURTHER INFORMATION CONTACT: Or for special Lee Anne Schramel Taylor, Forest Coordinator, USDA, Plumas National Forest, P.O. Box 11500/159 Lawrence Street, Quincy, CA 95971; (530) 283-7850; or by e-mail eataylor@fs.fed.us.

SUPPLEMENTARY INFORMATION: Agenda items for the September 21 meeting include: (1) Forest Service Update; (2) Future Legislation Potential; and (3) Recommendations for funding distribution, potentially including current Cycle 6 projects not yet approved. The meetings are open to the public and individuals may address the Committee after being recognized by the Chair. Other RAC information including previous meeting agendas and minutes may be obtained at http://www.fs.fed.us/payments.

Dated: September 13, 2007.
Fred J. Krueger,
Public Services Staff Officer.

[FR Doc. 07-4661 Filed 9-20-07; 8:45 am]

BILLING CODE 3410-11-M